FEDERAL COMMUNICATIONS COMMISSION

[OMB 3060-1122; FR ID 257008]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before December 24, 2024. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-1122.

Title: Preparation of Annual Reports to Congress for the Collection and Expenditure of Fees or Charges for Enhanced 911 (E911) Services under the NET 911 Improvement Act of 2008.

Form Number: Not applicable.

Type of Review: Extension of a currently approved collection.

Respondents: State, local, and tribal governments.

Number of Respondents and Responses: 66 Respondents; 66 Responses.

Estimated Time per Response: 55 hours.

Frequency of Response: Annual and one-time reporting requirement.

Obligation to Respond: Voluntary. Statutory authority for this information collection is contained in New and Emerging Technologies 911 Improvement Act of 2008, Public Law 110-283, 122 Stat. 2620 (2008) (NET 911 Act), and the Consolidated Appropriations Act, 2021, Public Law 116-260, Division FF, Title IX, Section 902, Don't Break Up the T-Band Act of 2020 (section 902).

Total Annual Burden: 3,630 hours.

Total Annual Cost: No Cost.

Needs and Uses: The Federal Communications Commission (Commission) is directed by statute (New and Emerging Technologies 911 Improvement Act of 2008, Public Law 110-283, 122 Stat. 2620 (2008) (NET 911 Act), as amended by the Consolidated Appropriations Act, 2021, Public Law 116-260, Division FF, Title IX, Section 902, Don't Break Up the T-Band Act of 2020 (section 902), to submit an annual “Fee Accountability Report” to the Committee on Commerce, Science, and Transportation of the Senate and the Committee on Energy and Commerce of the House of Representatives “detailing the status in each State of the collection and distribution of [911 fees or charges], and including findings on the amount of revenues obligated or expended by each State or political subdivision thereof for any purpose or function other than the purposes and functions designated in the final rules issued under paragraph (3) as purposes and functions for which the obligation or expenditure of any such fees or charges is acceptable.” 47 U.S.C. 615a-1(f)(2), as amended. Section 615a-1(f)(3) of the statute directs the Commission, not later than 180 days after December 27, 2020, to “issue final rules designating purposes and functions for which the obligation or expenditure of 9-1-1 fees or charges, by any State or taxing jurisdiction authorized to impose such a fee or charge, is acceptable.” 47 U.S.C. 615a-1(f)(3), as amended. The statute directs the Commission to submit its first annual report within one year after the date of enactment of the NET 911 Act. Given that the NET 911 Act was enacted on July 23, 2008, the first annual report was due to Congress on July 22, 2009. In addition, the statute provides that “[i]f a State or taxing jurisdiction . . . receives a grant under section 942 of this title after December 27, 2020, such State or taxing jurisdiction shall, as a condition of receiving such grant, provide the information requested by the Commission to prepare [the annual Fee Accountability Report to Congress].” 47 U.S.C. 615a-1(f)(4), as amended.

Description of Information Collection: The Commission will collect information for the annual preparation of the Fee Accountability Report via a web-based survey that appropriate state officials (e.g., state 911 administrators and budget officials) will be able to access to submit data pertaining to the collection and distribution of fees or charges for the support or implementation of 911 or enhanced 911 services, including data regarding whether their respective state collects and distributes such fees or charges, as well as the nature (e.g., amount and method of assessment or collection) and the amount of revenues obligated or expended for any purpose or function other than the purposes and functions designated as acceptable in the Commission's final rules. Consistent with 47 U.S.C. 615a-1(f)(3)(D)(iii), the Commission will request that state officials report this information with respect to 911 fees or charges within their state, including any political subdivision, Indian tribe, and/or village or regional corporation serving any region established pursuant to the Alaska Native Claims Settlement Act within their state boundaries. 47 U.S.C. 615a-1(f)(3)(D)(iii). In addition, consistent with the definition of “State” set out in 47 U.S.C. 615b, the Commission will collect this information from the District of Columbia and the inhabited U.S. territories and possessions. 47 U.S.C. 615b.

Federal Communications Commission.
Marlene Dortch,
Secretary, Office of the Secretary.

[FR Doc. 2024-24907 Filed 10-24-24; 8:45 am]

BILLING CODE 6712-01-P